DEPARTMENT OF LABOR

Employment and Training Administration

[TA-W-36-647 and TA-W-36-647C]

Cluett, Peabody and Company, Inc., The Enterprise Plant, Enterprise, AL and Albertville, AL; Amended Certification Regarding Eligibility To Apply for Worker Adjustment Assistance

In accordance with section 223 of the Trade Act of 1974 (19 USC 2273) the Department Labor issued a Certification of Eligibility to Apply for Worker Adjustment Assistance on September 16, 1999, applicable to workers of Cluett, Peabody and Company, Inc., the Enterprise Plant, Enterprise, Alabama, the Austell Plant, Austell, Georgia and New York, New York. The notice was published in the Federal Register on October 14, 1999 (64 FR 55750).

At the request of the company, the Department reviewed the certification for workers of the subject firm. New information shows that worker separations are occurring at the Albertville Plant, Albertville, Alabama location of Cluett, Peabody and Company, Inc. The workers are engaged in employment related to the production of men's shirts.

Accordingly, the Department is amending the certification to cover workers of Cluett, Peabody and Company, Inc., Albertville Plant, Albertville, Alabama.

The intent of the Department's certification is to include all workers of Cluett, Peabody and Company, Inc. adversely affected by increased imports of men's shirts.

The amended notice applicable to TA-W-36,647 is hereby issued as follows:

All workers of Cluett, Peabody and Company, Inc., The Enterprise Plant, Enterprise, Alabama (TA-W-36,647) and Albertville Plant, Albertville, Alabama (TA-W-36,647C) who became totally or partially separated from employment on or after August 10, 1998 through September 16, 2001 are eligible to apply for adjustment assistance under Section 223 of the Trade Act of 1974.

Signed at Washington, DC this 20th day of March 2000.
Grant D. Beale,
Program Manager, Division of Trade Adjustment Assistance.

[FR Doc. 00-7485 Filed 3-24-00; 8:45 am]

BILLING CODE 4510-30-M